Proclamation 8880 of October 1, 2012

Child Health Day, 2012

By the President of the United States of America

A Proclamation

As a Nation, we share an obligation to ensure the health and well-being of our children. The youth of today will shape America's tomorrow, and on Child Health Day, we rededicate ourselves to providing our next generation with access to the quality health care and clean environment that will nurture their future success.

My Administration has made the health of our Nation's children a top priority. Because of the Affordable Care Act, insurance companies can no longer deny coverage to children with pre-existing conditions. The law also allows young adults to stay on their parents' health insurance plan until age 26, which has brought coverage to more than 3 million Americans. My Administration has also taken action to ensure all our children can attend schools that are safe, where we address bullying and end the myth that it is a simple rite of passage. And through First Lady Michelle Obama's Let's Move! initiative, we are joining with parents, schools, and community leaders to address childhood obesity.

A safe environment in which our children can live and grow is also essential to their well-being. Because clean water is the foundation for healthy communities, we are working to reduce contaminants in our drinking water by updating standards and better protecting our water sources from pollution. We are also building on the successes of the Clean Air Act to improve our air quality and help decrease harmful toxins that can lead to acute bronchitis, asthma, cancer, and impaired development.

On Child Health Day, we are reminded that by giving our children a healthy start in life, we put them and our Nation on the path to a successful future. As we mark this important occasion, let us reaffirm our commitment to meeting that most fundamental responsibility.

The Congress, by a joint resolution approved May 18, 1928, as amended (36 U.S.C. 105), has called for the designation of the first Monday in October as Child Health Day and has requested the President to issue a proclamation in observance of this day.

NOW, THEREFORE, I, BARACK OBAMA, President of the United States of America, do hereby proclaim Monday, October 1, 2012, as Child Health Day. I call upon families, child health professionals, faith-based and community organizations, and all levels of government to help ensure America's children stay healthy.

IN WITNESS WHEREOF, I have hereunto set my hand this first day of October, in the year of our Lord two thousand twelve, and of the Independence of the United States of America the two hundred and thirty-seventh.

[FR Doc. 2012-24709

Filed 10-3-12; 8:45 am]

Billing code 3295-F3